DEPARTMENT OF THE INTERIOR

National Park Service

Tallgrass Prairie National Preserve, Kansas

ACTION: Record of Decision.

Introduction: The National Park Service has prepared the Final General Management Plan/Final Environmental Impact Statement (GMP/EIS) for Tallgrass Prairie National Preserve, Kansas. This Record of Decision is a statement of the decisions made, other alternatives considered, the basis for the decision, the environmentally preferable alternative, measures proposed to mitigate environmental harm, and public involvement in the decision-making process.

Decision: The National Park Service will implement the proposed action as described in the Preferred Alternative and the Actions Common to all Action Alternatives sections of the General Management Plan/Environmental Impact Statement issued in September 2000.

Summary of the Selected Action: The goal of the selected action is the integrated management of the natural and cultural resources of the preserve. Two fundamental ideas form the basis for the preferred alternative: (1) Tallgrass Prairie National Preserve has been established as a unit of the National Park System to preserve, protect, and interpret for the public a remnant of the once vast tallgrass prairie ecosystem, and (2) this remnant exists today because of a complex history of interaction between people and the land. The proposed management plan seeks to reflect this long history of interaction. Management areas will be designated to provide guidance for implementing desired future conditions and visitor experience goals.

The National Park Service (NPS) will enter into a long-term legal agreement with the landowner, the National Park Trust (NPT), to manage the preserve. Initially, the NPS will acquire, through donation, approximately 29 acres of land from the NPT that includes the historic ranch headquarters and the Lower Fox Creek School areas.

The preserve will be managed to maintain and enhance the tallgrass prairie within its boundaries through the use of fire and historic and contemporary grazing regimes in different combinations that vary over time and location. Prescribed fire applications will make use of roads, fences, stream courses, topography, and burn frequencies to create a varied landscape or vegetative mosaic that will help maintain and enhance the tallgrass prairie and will encourage the wide variety of native plant and animal life associated with the prairie. Grazing regimes will include cattle and bison, separated by adequate fencing.

Decisions regarding natural and cultural resources will be guided by information generated through research and by ongoing inventory and monitoring programs.

Riparian areas will be protected from erosion and further loss of vegetation. Some bottomland prairie will be restored. Springs, seeps, and associated streams will receive additional protection if they are found to contain unique or rare native plant or animal species.

Some agricultural crops will be planted to create a historic scene, but no alien, non-indigenous species will be introduced into riparian areas or areas of native prairie. Existing exotic species that could impact preserve resources in a negative manner, or could spread rapidly, will be removed or controlled where practical.

Significant archeological and ethnological sites will be preserved and protected, and public access to these sites will be controlled. Specific resources may be made accessible to culturally affiliated tribes or traditionally associated groups by request. Any identified American Indian sacred sites will be protected, with access for sacred ceremonies allowed to appropriate tribes.

The ranching character of the area encompassing the historic ranch headquarters and the Lower Fox Creek School will be retained, with the buildings, associated structures, and landscape features restored, rehabilitated, and/or preserved.

A primary visitor information and orientation area will be developed near the junction of State Route 177 and U.S. 50, near Strong City. A variety of visitor activities and facilities appropriate for a national preserve will provide for a range of opportunities, time commitments, and levels of physical exertion. A range of on-site interpretive and educational programs will be offered, focusing on the natural history of the tallgrass prairie, ranching in the Flint Hills, and American Indian history and culture. A public transportation system, such as a shuttle, will be developed using existing roads and roadbeds to provide transportation, interpretive tours, and access to the prairie.

Lands east of the Fox Creek bottomland will provide day use opportunities for visitors to explore the prairie and its associated human history.

The NPS will actively seek partnerships and opportunities for cooperation with local communities, government agencies, nonprofit organizations, and other entities that may have an interest in helping to achieve the preserve's desired futures.

Other Alternatives Considered

Alternative A, “No Action.” Tallgrass Prairie National Preserve represents an unusual situation in which to explore a “no action” alternative. The preserve is, and will remain, under the ownership of the National Park Trust (NPT), yet Congress has authorized the National Park Service (NPS) to manage the land. Currently an interim cooperative agreement is in place to allow the NPT and the NPS to work together to address the immediate operational needs. It is assumed that under this alternative the NPT would continue to own all the land and the NPS would continue to provide minimal management, in accordance with the terms of the interim agreement.

A 35-year grazing lease would continue on 98 percent of the preserve. Current practices include early intensive stocking and annual burning of all the leased acreage. An access agreement between the NPT and the lessee would determine public access to preserve lands. Brome would continue to grow on preserve lands and riparian areas would continue to be used by cattle.

Historic structures and portions of the landscape would receive routine or limited maintenance.

Alternative B. The primary focus of this alternative would be on the cultural resources of the preserve. The majority of the preserve would be designated a cultural area, where most of the cultural resources would be restored, stabilized, or preserved, and visitor access to these resources would be maximized. A small area of the preserve would be set aside for prairie enhancement activities and low-impact visitor activities. Motorized traffic would be limited and visitor opportunities would require greater time commitments and moderate effort.

Alternative C. The primary focus of this alternative would be on offering diverse visitor opportunities. There would be management areas within the preserve for moderate use and an area for dispersed use. The moderate use area would offer public transportation, while the dispersed use area would be restricted to nonmotorized means of access. Cultural resources representing “best examples” of the story of human interaction with the prairie would be restored and preserved, others would be stabilized. Cattle operations would include cow-calf and season-long grazing to allow visitors the opportunity to observe ranching operations in all seasons. Prairie enhancement activities would occur in the dispersed use area.

Alternative D. This alternative would offer a “two-pronged” focus on ranching and tallgrass prairie management. Demonstrations of ranching activities would occur and traditional row crops would be planted in some areas to re-create the historic agricultural and ranching scene. Cultural resources would be maintained and used adaptively for ranch operations, demonstrations, and visitor facilities. Prairie management would be designed to promote diversity of native species.

Alternative E. The primary focus of this alternative would be on enhancing the tallgrass prairie ecosystem, including its associated creeks, springs, and seeps. Management activities would be designed to establish a dynamic mosaic of successional stages resulting from the interaction of climate, fire, and grazing. More than half the preserve would consist of a large native ungulate management area where visitor access would be limited. Other areas of the preserve would offer visitors more access and opportunities, such as demonstrations of traditional cattle ranching practices and demonstrations of alternative prairie management practices. Cultural resources in the ranch headquarters and Lower Fox Creek School areas would be preserved and protected.

The following two additional alternatives were considered but rejected early in the planning process:

Alternative F. Under this alternative the preserve would have been managed as a modern working ranch. Historic structures would have been adaptively used and other structures would have been updated and improved to meet modern needs. Prairie enhancement activities probably would not have occurred to a large extent, due to the need for profitability. Visitor access to the prairie and to the historic ranch headquarters area would have been limited for safety reasons, though visitors would have had the opportunity to observe how cattle are raised for market today.

Rehabilitation, restoration, and maintenance of the cultural resources and visitor access to those resources would have been very limited due to safety, liability concerns, and costs. Important elements of preservation and interpretation would be missing, including many of the cultural landscape elements. Significant changes might have been necessary to make the structures and facilities usable and efficient for ranching operations. These changes could have conflicted with the needs for interpretation, historic preservation, and visitor use.

Elements of the legislation, purpose, mission, desired futures, and visitor experience goals could not have been met under this alternative, because of safety, liability, and costs. The need to provide for operational efficiencies and profits in a modern ranching operation also could not be met.

Alternative G. Under this alternative, the majority of preserve lands would have been managed as a wilderness area. The historic ranch headquarters and Lower Fox Creek School areas would have been preserved, but most other developments would have been removed in order to restore all natural processes and enhance the prairie to the greatest extent possible. Visitor use would have been limited to nonmotorized and dispersed activities.

Alternative G placed the greatest, almost exclusive, emphasis on the natural resources. Therefore, important elements associated with the restoration, rehabilitation, and maintenance of the cultural resources, including the cultural landscapes, would have been lost through this alternative. Visitor understanding and appreciation of the history of human use of the preserve area would not have occurred with this alternative, particularly in relationship to the ranching resources.

Environmentally Preferable Alternative: The environmentally preferable alternative is defined as “the alternative or alternatives that will promote the national environmental policy as expressed in Section 101 of the National Environmental Policy Act. Ordinarily, this means the alternative that causes least damage to the biological and physical environment; it also means the alternative that best protects, preserves, and enhances historic, cultural, and natural resources” (“Forty Most Asked Questions Concerning Council on Environmental Quality's [CEQ] National Environmental Policy Act Regulations,” 1981).

The last clause within this guidance is particularly relevant in identifying the environmentally preferable alternative for the Tallgrass Prairie National Preserve general management plan. Public Law 104-333 sets forth two purposes for the preserve. First, the preserve was established “. . . to preserve, protect, and interpret for the public an example of a tallgrass prairie ecosystem . . .” Second, the preserve was established “. . . to preserve and interpret for the public the historic and cultural values represented on the Spring Hill Ranch.” Preserving both the natural and cultural resources that are related to the tallgrass prairie requires careful balancing to ensure that neither type of resource receives inordinate adverse impacts.

In consideration of the dual purposes for which the preserve was established, the National Park Service has identified the Preferred Alternative as the environmentally preferable alternative. The preferred alternative would provide for greater expression of vegetative species diversity than other alternatives, and would have the lower impacts to vegetation from visitation and development. The alternative would provide for the greater knowledge of natural resources because of the emphasis on intensive inventory and monitoring programs and external research.

Alternative E shares these advantages. Alternative E also would provide for greater improvement to water quality. However, Alternative E would allow for more deterioration of cultural resources (as the emphasis of the alternative would be on the protection of the tallgrass prairie ecosystem). The Preferred Alternative, therefore, provides for more holistic protection of the preserve's resources.

Basis for Decision: While developing the various preliminary management alternatives, and through feedback from consultants and the public, the major focus of the proposed action was crystallized: the preserve represents a small remnant of the once vast tallgrass prairie and it is the long history of interaction of people with this land that has allowed that remnant to survive to this day. Thus, it was determined that the integration of the management of the cultural and natural resources, reflecting this long relationship of people and land, would be vital to the future protection of those resources and the interpretation of the story of the preserve. With that end in mind, the proposed action was developed out of the existing alternatives. It fully supports the park's purpose and significance; it accomplishes, to a great extent, the desired futures for the preserve; and it offers a broad level of both resource protection and visitor opportunities.

Measures Proposed to Mitigate Environmental Harm: All practicable measures to avoid or minimize environmental impacts that could result from implementation of the selected action have been identified and incorporated into the selected action. These measures are identified in the GMP/EIS. They include, but are not limited to, monitoring and management of natural and cultural resources, monitoring and management of visitor use, and continuing consultation with appropriate entities. Many other mitigation measures are described in the GMP.

Since the GMP/EIS offers a broad plan for the future, specific project and implementation plans will be developed later. These will be developed in compliance with the National Environmental Policy Act, the National Historic Preservation Act, and other applicable federal and state laws and regulations prior to project clearance and implementation.

Public Involvement: Five newsletters were produced; the first four issues went to all postal patrons in Chase County, to relevant agencies and organizations, and to those requesting to be on the mailing list. Chase County residents who requested to remain on the list were included in the mailing of the fifth issue. The planning mailing list currently contains approximately 1,435 addresses.

Informational open houses have been held throughout the planning process. Two were held in July 1997, in Cottonwood Falls and Topeka, to introduce the planning team and to explain the planning process. Two were held in October 1997, in Emporia and Council Grove, to provide an opportunity for the public to ask questions about planning activities and to share information. One hundred forty-one people attended these meetings. Two hundred sixty-seven written comments were received early in the planning effort, expressing thoughts and concerns about a vision for the future of the preserve.

In June 1998, when the preliminary management alternatives were developed, four open houses were held to present these alternatives: one each in Strong City, Wichita, Council Grove, and Lawrence. A total of 245 people attended those meetings, and during the comment period, 324 written comments were received.

Open houses were again held in these four cities and in Topeka, in February 1999, when the draft preferred alternative was developed. One hundred fifty-six people attended these meetings; 215 written comments were received.

About 500 copies of the Draft GMP/EIS were distributed to the public, interest groups, and government agencies in late 1999. In conjunction with the 60-day public review of the Draft GMP/EIS open houses were held in Cottonwood Falls, Wichita, and Lawrence. A total of 70 people attended these open houses. During the comment period, 69 written public comments were received. Copies of the plan were available for review in local government offices and libraries.

The Tallgrass Prairie National Preserve worldwide website (www.nps.gov/tapr) has contained planning information since June 1997, and electronic comment sheets were posted there during the public comment period for the preliminary alternatives, draft preferred alternative, and Draft GMP/EIS. Approximately 87 comments were received through that medium.

Newsletters and response forms were available at the preserve's administrative offices in Cottonwood Falls, Kansas as well as at the historic ranch headquarters, two miles north of Strong City, Kansas.

Conclusion: A notice of availability for the General Management Plan/Environmental Impact Statement for Tallgrass Prairie National Preserve was published in the Federal Register by the Environmental Protection Agency on October 20, 2000 and the 30-day no-action period ended on November 20, 2000. The National Park Service distributed approximately 315 copies of the Final GMP/EIS during this period. Eight letters commenting on the Final GMP/EIS were received. These letters either expressed support for the preferred alternative, repeated issues already addressed in responses to comments on the draft document, or raised issues more appropriately addressed in follow-up implementation planning. No changes to the GMP/EIS were made in response to comments on the final document.

The above factors and considerations justify the selection of the final plan, as described in the “Proposed Action” and “Actions Common to All Action Alternatives” sections of the Final Environmental Impact Statement. The General Management Plan is hereby approved.

Recommended:

Dated: December 4, 2000.
Stephen T. Miller,
Superintendent, Tallgrass Prairie National Preserve.
Approved:
Dated: December 5, 2000.
David N. Given,
Acting Regional Director, Midwest Region.

[FR Doc. 00-31914 Filed 12-14-00; 8:45 am]

BILLING CODE 4310-70-P